DEPARTMENT OF COMMERCE

Foreign-Trade Zones Board

[Order No. 1475]

Grant of Authority for Subzone Status, Nissan Forklift Corporation North America (Forklift Trucks), Marengo, Illinois

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, an application from the Greater Rockford Airport Authority, grantee of Foreign-Trade Zone 176 (Rockford, Illinois), for authority to establish special-purpose subzone status for the forklift truck manufacturing facilities of Nissan Forklift Corporation North America, in Marengo, Illinois, was filed by the Board on June 8, 2005, and notice inviting public comment was given in the Federal Register (FTZ Docket 28-2005, 70 FR 34742, 6-15-2005); and,

Whereas, the Board adopts the findings and recommendations of the examiner's report, and finds that the requirements of the FTZ Act and Board's regulations would be satisfied, and that approval of the application would be in the public interest if approval were subject to restriction;

Now, therefore, the Board hereby grants authority for subzone status for activity related to industrial forklift trucks at the manufacturing and warehousing facilities of Nissan Forklift Corporation North America located in Marengo, Illinois (Subzone 176E), as described in the application and Federal Register notice, and subject to the FTZ Act and the Board's regulations, including Section 400.28, and further subject to a restriction requiring that all articles of textile materials classified under HTSUS# 6307.90.3010, 6307.90.3020, 6307.90.8940, 6307.90.8995, 6307.90.9882, and 6307.90.9884 must be admitted under privileged foreign status (19 CFR 146.41).

Signed at Washington, DC, this 21st day of August 2006.

David M. Spooner,
Assistant Secretary of Commerce for Import Administration, Alternate Chairman, Foreign-Trade Zones Board.
Attest:
Andrew McGilvray,
Acting Executive Secretary.

[FR Doc. E6-14336 Filed 8-28-06; 8:45 am]

BILLING CODE 3510-DS-S